DEPARTMENT OF THE INTERIOR

Bureau of Reclamation

Glen Canyon Dam Adaptive Management Work Group (AMWG)

AGENCY: Bureau of Reclamation, Interior

ACTION: Notice of public meeting.

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Dates and Addresses: The AMWG will conduct the following public meeting:

Flagstaff, Arizona—August 29-30, 2007. The meeting will begin at 9:30 a.m. and conclude at 5:30 p.m. on the first day and begin at 8 a.m. and conclude at 4 p.m. on the second day. The meeting will be held at the Grand Canyon Monitoring and Research Center, 2255 N. Gemini Drive, Building 3 Main Conference Room, Flagstaff, Arizona.

Agenda: The purpose of the meeting will be to (1) Review and develop a recommendation to the Secretary of the Interior for the fiscal year 2008 Budget, Workplan, and hydrograph; (2) receive updates on the Monitoring and Research Plan, the Beach/Habitat Building Flow Science Plan, public outreach efforts, Long-Term Experimental Plan Environmental Impact Study, and Humpback Chub Recovery Implementation Plan; (3) review fiscal year 2007 mid-year program expenditures; (4) discuss the Roles Ad Hoc Group Report; and (5) discuss basin hydrology/climate changes, and other administrative and resource issues pertaining to the AMP. To view a copy of the draft agenda, please visit Reclamation's Web site at: http://www.usbr.gov/uc/rm/amp/amwg/mtgs/07aug29/index.html.

FOR FURTHER INFORMATION CONTACT: Randall Peterson, Bureau of Reclamation, telephone (801) 524-3758; facsimile (801) 524-3858; e-mail at rpeterson@uc.usbr.gov.

To allow full consideration of information by the AMWG members, written notice must be provided to Randall Peterson, Bureau of Reclamation, Upper Colorado Regional Office, 125 South State Street, Room 6107, Salt Lake City, Uta 84138; telephone (801) 524-3758; faxogram (801) 524-3858; e-mail at rpeterson@uc.usbr.gov at least five (5) days prior to the meeting. Any written comments received will be provided to the AMWG members.

Dated: July 19, 2007.
Randall V. Peterson,
Manager, Environmental Resources Division, Upper Colorado Regional Office, Salt Lake City, Utah.

[FR Doc. E7-15699 Filed 8-9-07; 8:45 am]

BILLING CODE 4310-MN-P